DEPARTMENT OF DEFENSE

Office of the Secretary

Department of Defense Task Force on the Care, Management, and Transition of Recovering Wounded, Ill, and Injured Members of the Armed Forces; Notice of Federal Advisory Committee Meeting

AGENCY: Office of the Assistant Secretary of Defense, DoD.

ACTION: Meeting notice.

SUMMARY: The Department of Defense is publishing this notice to announce the following Federal Advisory Committee meeting of the Department of Defense Task Force on the Care, Management, and Transition of Recovering Wounded, Ill, and Injured Members of the Armed Forces (subsequently referred to as the Task Force). This meeting is open to the public.

DATES: Tuesday, July 8, 2014 from 8:00 a.m. to 3:30 p.m. e.s.t.—Wednesday, July 9, 2014 from 8:00 a.m. to 3:45 p.m. e.s.t.

ADDRESSES: DoubleTree by Hilton Hotel Washington DC-Crystal City, 300 Army Navy Drive, Arlington, VA 22202 (Commonwealth Room).

FOR FURTHER INFORMATION CONTACT: Mail Delivery service through Recovering Warrior Task Force, Hoffman Building II, 200 Stovall St., Alexandria, VA 22332-0021 “Mark as Time Sensitive for July Meeting”. Email correspondence to rwtf@mail.mil. Ms. Denise F. Dailey, Designated Federal Officer; Telephone (703) 325-6640. Fax (703) 325-6710.

SUPPLEMENTARY INFORMATION:

This meeting is being held under the provisions of the Federal Advisory Committee Act of 1972 (5 U.S.C., Appendix, as amended), the Government in the Sunshine Act of 1976 (5 U.S.C. 552b, as amended), and 41 CFR 102-3.150.

Purpose of the Meeting: The purpose of the meeting is for the Task Force Members to convene and vote on recommendations for their FY 2014 annual report.

Agenda: (Refer to http://rwtf.defense.gov for the most up-to-date meeting information)

Day One: Tuesday, July 8, 2014

8:00 a.m.-8:15 a.m. Administrative

8:15 a.m.-9:00 a.m. Task Force Consolidated Voting Session New Approach to IDES

9:00 a.m.-9:15 a.m. Break

9:15 a.m.-10:00 a.m. Task Force Consolidated Voting Session Improve Current IDES process

10:00 a.m.-10:15 a.m. Break

10:15 a.m.-11:00 a.m. Task Force Consolidated Voting Session DoDI for Addressing RW Family Member and Caregiver Needs

11:00 a.m.-11:30 a.m. Task Force Consolidated Voting Session Uniformed Representatives at the Office of Warrior Care Policy

11:30 a.m.-12:30 p.m. Break for lunch

12:30 p.m.-1:15 p.m. Task Force Consolidated Voting Session Securing Enduring Resources for RW programs

1:15 p.m.-1:30 p.m. Break

1:30 p.m.-2:15 p.m. Task Force Consolidated Voting Session Interagency Policy/Cross Agency Policy

2:15 p.m.-2:30 p.m. Break

2:30 p.m.-3:00 p.m. Task Force Consolidated Voting Session Center of Excellence Alignment

3:00 p.m.-3:30 p.m. Wrap Up

Day Two: Wednesday, July 9, 2014

8:00 a.m.-8:15 a.m. Administrative

8:15 a.m.-8:30 a.m. Public Forum

8:30 a.m.-9:15 a.m. Task Force Consolidated Voting Session Optimize Family Contribution to RW's Recovery

9:15 a.m.-9:30 a.m. Break

9:30 a.m.-10:15 a.m. Task Force Consolidated Voting Session Facilitate Transfer of Service members to the VA

10:15 a.m.-10:30 a.m. Break

10:30 a.m.-11:15 a.m. Task Force Consolidated Voting Session Vocational and Employment Programs

11:15 a.m.-12:00 p.m. Task Force Consolidated Voting Session Health Insurance for Reserve Component

12:00 p.m.-1:00 p.m. Break for lunch

1:00 p.m.-1:45 p.m. Task Force Consolidated Voting Session Expand Access to Care for Service members and Veterans

1:45 p.m.-2:00 p.m. Break

2:00 p.m.-2:30 p.m. Task Force Consolidated Voting Session Recruitment Standards

2:30 p.m.-2:45 p.m. Break

2:45 p.m.-3:45 p.m. Review of Annual Report Introduction and Best Practices/ Wrap Up/Closing Activities

Public's Accessibility to the Meeting: Pursuant to 5 U.S.C. 552b and 41 CFR 102-3.140 through 102-3.165, and the availability of space, this meeting is open to the public. Seating is on a first-come basis.

Pursuant to 41 CFR 102-3.105(j) and 102-3.140, and section 10(a)(3) of the Federal Advisory Committee Act of 1972, the public or interested organizations may submit written statements to the Department of Defense Task Force on the Care, Management, and Transition of Recovering Wounded, Ill, and Injured Members of the Armed Forces about its mission and functions. If individuals are interested in making an oral statement during the Public Forum, a written statement for a presentation of two minutes must be submitted as stated in this notice and it must be identified as being submitted for an oral presentation by the person making the submission. Identification information must be provided and, at a minimum, must include a name and a phone number. Individuals may visit the Task Force Web site at http://rwtf.defense.gov to view the Charter. Individuals making presentations will be notified by Tuesday, July 1, 2014. Oral presentations will be permitted only on Wednesday, July 9, 2014 from 8:15 a.m. to 8:30 a.m. e.s.t. before the Task Force. The number of oral presentations will not exceed ten, with one minute of questions available to the Task Force members per presenter. Presenters should not exceed their two minutes.

Written statements in which the author does not wish to present orally may be submitted at any time or in response to the stated agenda of a planned meeting of the Department of Defense Task Force on the Care, Management, and Transition of Recovering Wounded, Ill, and Injured Members of the Armed Forces.

All written statements shall be submitted to the Designated Federal Officer for the Task Force through the contact information in the FOR FURTHER INFORMATION CONTACT section, and this individual will ensure that the written statements are provided to the membership for their consideration.

Statements, either oral or written, being submitted in response to the agenda mentioned in this notice must be received by the Designated Federal Officer at the address listed in the FOR FURTHER INFORMATION CONTACT section no later than 5:00 p.m. e.s.t., Friday, June 27, 2014 with the subject of this notice. Statements received after this date may not be provided to or considered by the Task Force until its next meeting. Please mark mail correspondence as “Time Sensitive for July Meeting.”

The Designated Federal Officer will review all timely submissions with the Task Force Co-Chairs and ensure they are provided to all members of the Task Force before the meeting that is the subject of this notice.

Reasonable accommodations will be made for those individuals with disabilities who request them. Requests for additional services should be directed to Ms. Heather Moore, (703) 325-6640, by 5:00 p.m. e.s.t., Thursday, July 3, 2014.

Dated: June 3, 2014.
Aaron Siegel,
Alternate OSD Federal Register Liaison Officer, Department of Defense.

[FR Doc. 2014-13177 Filed 6-5-14; 8:45 am]

BILLING CODE 5001-06-P